DEPARTMENT OF HEALTH AND HUMAN SERVICES

Centers for Disease Control and Prevention

Office for State, Tribal, Local and Territorial Support (OSTLTS); Correction

Correction: This notice was published in the Federal Register on January 4, 2011, Volume 76, Number 2, page 367. The institute office and place should read as follows:

Office for State, Tribal, Local and Territorial Support (OSTLTS)

Place: CDC, 1600 Clifton Road, NE., Building 19, Atlanta, Georgia 30333.

Contact Person for More Information: Kimberly Cantrell, Senior Tribal Liaison for Policy and Evaluation, OSTLTS, CDC, 4770 Buford Highway, MS E-19 Atlanta, Georgia 30341, telephone (404) 498-0411, e-mail: KLW6@cdc.gov.

The Director, Management Analysis and Services Office has been delegated the authority to sign Federal Register notices pertaining to announcements of meetings and other committee management activities, for both the Centers for Disease Control and Prevention, and the Agency for Toxic Substances and Disease Registry.

Dated: January 7, 2011.
Elaine L. Baker,
Director, Management Analysis and Services Office, Centers for Disease Control and Prevention.

[FR Doc. 2011-1235 Filed 1-20-11; 8:45 am]

BILLING CODE 4163-18-P